NUCLEAR REGULATORY COMMISSION

[Docket Nos. 50-247 and 50-286; NRC-2008-0672]

License Renewal Application for Indian Point Nuclear Generating Units 2 and 3; Entergy Nuclear Operations, Inc.

AGENCY: Nuclear Regulatory Commission.

ACTION: License renewal application; intent to prepare supplement to final SEIS.

SUMMARY: On April 23, 2007, Entergy Operations, Inc. (Entergy), submitted to the U.S. Nuclear Regulatory Commission (NRC) an application for renewal of Facility Operating Licenses DPR-26 and DPR-64 for an additional 20 years of operation at Indian Point Nuclear Generating Units 2 and 3 (IP2 and IP3). The current operating licenses for IP2 and IP3 expire on September 28, 2013, and December 12, 2015, respectively. The purpose of this document is to inform the public that the NRC will be preparing a supplement to the final Supplemental Environmental Impact Statement (SEIS) to address information on aquatic impacts in accordance with the NRC's regulations.

ADDRESSES: Please refer to Docket ID NRC-2008-0672, when contacting the NRC about the availability of information regarding this document. You may access information related to this document, which the NRC possesses and is publicly available, using the following methods:

• Federal Rulemaking Web site: Go to http://www.regulations.gov and search for Docket ID NRC-2008-0672. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Ms. Kimberly Green, Division of License Renewal, Office of Nuclear Reactor Regulation, U.S. Nuclear Regulatory Commission, Washington, DC 20555-0001; telephone: 301-415-1627; email: Kimberly.Green@nrc.gov.

SUPPLEMENTARY INFORMATION:

Discussion

Entergy submitted an application for renewal of Facility Operating Licenses DPR-26 and DPR-64 for an additional 20 years of operation at IP2 and IP3. Approximately 24 miles north of New York City, IP2 and IP3 are located in Westchester County in the Village of Buchanan, New York.

The current operating licenses for IP2 and IP3 expire on September 28, 2013, and December 12, 2015, respectively. The application for renewal, dated April 23, 2007, was submitted pursuant to Title 10 of the Code of Federal Regulations (10 CFR) Part 54, which included an environmental report (ER).

On December 3, 2010, the NRC staff issued its final SEIS, documenting its final analysis and recommendation on the proposed action—renewal of the operating licenses for IP2 and IP3. The final SEIS is available in ADAMS under package Accession No. ML103360205.

This document is being published in accordance with the National Environmental Policy Act and the NRC's regulations found at 10 CFR Part 51. The purpose of this document is to inform the public that the NRC will be preparing a supplement to the final SEIS to address information on aquatic impacts in accordance with the NRC's regulations found at 10 CFR 51.92.

Subsequent to the issuance of the final SEIS, the NRC staff identified three types of new information regarding aquatic impacts that necessitate changes to the staff's findings in the final SEIS. The new information consists of (1) entrainment and impingement field data units of measure; (2) a new thermal study that characterizes the thermal plume of cooling water discharges from IP2 and IP3; and (3) new developments concerning the staff's section 7 consultation under the Endangered Species Act of 1973, as amended, with the National Marine Fisheries Service regarding endangered species.

In accordance with 10 CFR 51.53(c) and 10 CFR 54.23, Entergy submitted the ER as part of the application. The ER was prepared pursuant to 10 CFR Part 51 and is available in ADAMS under Accession No. ML071210530. In addition, the ER is available for public inspection at the White Plains Public Library located at 100 Martine Avenue, White Plains, NY 10601; the Hendrick Hudson Free Library located at 185 Kings Ferry Road, Montrose, NY 10548; and the Field Library located at 4 Neslon Avenue, Peekskill, NY 10566.

Dated at Rockville, Maryland, this 13th day of March, 2012.
For the Nuclear Regulatory Commission.
David J. Wrona,
Chief, Projects Branch 2, Division of License Renewal, Office of Nuclear Reactor Regulation.

[FR Doc. 2012-6666 Filed 3-19-12; 8:45 am]

BILLING CODE 7590-01-P